DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans that are final. The actions relate to a proposed highway project, the State Route 241 and State Route 91 Tolled Express Lanes Connector Project from the County of Orange (12-ORA-241 p.m. 36.1/39.1 and 12-ORA 91 p.m. 14.7/18.9) to the County of Riverside (08-RIV-91 p.m. 0.0/1.5), in the State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before September 21, 2020. If the Federal law that authorizes judicial review of a claim provides a time period of less than 150 days for filing such claim, then that shorter time period still applies.

FOR FURTHER INFORMATION CONTACT: For Caltrans: Smita Deshpande, Generalist Branch Chief, Caltrans—District 12, 1750 East Fourth Street, Suite 100, Santa Ana, California 92705, weekdays 9:00 a.m. to 3:00 p.m., telephone (657) 328-6000, email D12TolledExpressLanesConnector@dot.ca.gov. For FHWA: David Tedrick at (916) 498-5024 or email david.tedrick@dot.gov.

SUPPLEMENTARY INFORMATION: Effective July 1, 2007, the FHWA assigned, and the Caltrans assumed, environmental responsibilities for this project pursuant to 23 U.S.C. 327. Notice is hereby given that the Caltrans have taken final agency actions subject to 23 U.S.C. 139(l)(1) by issuing licenses, permits, and approvals for the following highway project in the State of California: The State Route 241/State Route 91 (SR-241/SR-91) Express Lanes Connector Project (FHWA Project No. 120020097), which would construct a median-to- median connector between SR-241 and the tolled lanes in the median of SR-91 (91 Express Lanes). The Proposed Project proposes to improve access and reduce congestion at the SR-241/SR-91 interchange by providing a direct connector between SR-241 and the 91 Express Lanes. The Propose Project, located at the junction of SR-241 and SR-91 in the cities of Anaheim, Yorba Linda, and Corona and the counties of Orange and Riverside, would provide improved access between SR-241 and SR-91 and is proposed to be a tolled facility is proposed to be a tolled facility with a total length of approximately 8.7 miles (mi). The actions by the Federal agencies, and the laws under which such actions were taken, are described in the Final Supplemental Environmental Impact Statement (Final Supplemental EIS) for the project, approved on January 7, 2020 in the FHWA Record of Decision (ROD) issued on March 12, 2020 and in other documents in the FHWA project records. The Final Supplemental EIS, ROD, and other project records are available by contacting Caltrans at the addresses provided above.

This notice applies to all Federal agency decisions as of the issuance date of this notice and all laws under which such actions were taken, including but not limited to:

1. E.O. 12372, Intergovernmental Review;

2. E.O. 11990, Protection of Wetlands;

3. E.O. 12088, Pollution Control Standards;

4. E.O. 13112, Invasive Species;

5. E.O. 11988, Floodplain Management;

6. Council on Environmental Quality regulations;

7. National Environmental Policy Act (NEPA);

8. Department of Transportation Act of 1996;

9. Federal Aid Highway Act of 1970;

10. Clean Air Act Amendments of 1990;

11. Department of Transportation Act of 1966; Section 4(f);

12. Clean Water Act of 1977 and 1987;

13. Endangered Species Act of 1973;

14. Migratory Bird Treaty Act;

15. National Historic Preservation Act of 1966, as amended; and

16. Historic Sites Act of 1935.

1.

(Catalog of Federal Domestic Assistance Program Number 20.205, Highway Planning and Construction. The regulations implementing Executive Order 12372 regarding intergovernmental consultation on Federal programs and activities apply to this program.)

Authority: 23 U.S.C. 139(l)(1).

Issued on: April 14, 2020.
Rodney D. Whitfield,
Director, Financial Services, Federal Highway Administration, California Division.

[FR Doc. 2020-08530 Filed 4-21-20; 8:45 am]

BILLING CODE 4910-RY-P